AGENCY FOR INTERNATIONAL DEVELOPMENT

Notice of Public Information Collection Requirements Submitted to OMB for Review

SUMMARY: US. Agency for International Development (USAID) has submitted the following information collection to OMB for review and clearance under the Paperwork Reduction Act of 1995. Public Law 104-13. Comments regarding this information collection are best assured of having their full effect if received within 30 days of this notification. Comments should be sent via e-mail to David_Rostker@omb.eop.gov or fax to 202-395-7285. Copies of submission may be obtained by calling (202) 712-1365.

SUPPLEMENTARY INFORMATION: OMB Number: OMB 0412-0576 Form Number: N/A.

Title: Security firm Survey.

Type of Submission: Renewal of Information Collection.

Purpose: It has become increasingly necessary in today's international environment for USAID to employ security firms to assist in providing a secure environment for its overseas employees. Due to the recent event involving the use of deadly force by U.S. Government contractors and/or subcontractors or subgrantees in Iraq, there is now a tremendous amount of interest in how, when and where the Government uses these private security firms. This necessity and resulting heightened scrutiny will continue for the foreseeable future.

USAID's Office of Acquisition and Assistance (“OAA”) must therefore closely monitor the types of security service contracts and agreements USAID missions enter into and how these contracts/grants are implemented. Approximately 20 missions have entered into security service contracts/agreements and most of the information OAA requests can be gathered within the mission without burdening the contractors/grantees. Missions will be instructed to contact the contractors/grantees on a limited basis only when the information cannot be obtained internally.

Annual Reporting Burden:

Respondents: 20.

Total annual responses: 20.

Total annual hours requested: 60 hours.

Dated: May 8, 2008.
Joanne Paskar,
Chief, Information and Records Division, Office of Administrative Services, Bureau for Management.

[FR Doc. E8-10981 Filed 5-15-08; 8:45 am]

BILLING CODE 6116-01-M